DEPARTMENT OF THE TREASURY

United States Mint

Pricing for the 2013 America the Beautiful Quarter Five Ounce Silver Uncirculated Coins™

AGENCY: United States Mint, Department of the Treasury.

ACTION: Notice.

SUMMARY: The United States Mint is announcing the price of the 2013 America the Beautiful Quarter Five Ounce Silver Uncirculated Coins™.

The coins will be offered for sale at a price of $179.95.

FOR FURTHER INFORMATION CONTACT: J. Marc Landry, Acting Associate Director for Sales and Marketing; United States Mint; 801 9th Street NW., Washington, DC 20220; or call 202-354-7500.

Authority: 31 U.S.C. 5111, 5112 & 9701.

Dated: April 29. 2013.
Richard A. Peterson,
Acting Director, United States Mint.

[FR Doc. 2013-10475 Filed 5-2-13; 8:45 am]

BILLING CODE 4810-37-P